DEPARTMENT OF THE INTERIOR

Fish and Wildlife Service

Final Comprehensive Conservation Plan for Mingo, Pilot Knob, and Ozark Cavefish National Wildlife Refuges (NWRs) Wayne, Stoddard, Iron, Lawrence, and Newton Counties, MO

AGENCY: Fish and Wildlife Service, Interior.

ACTION: Notice of availability.

SUMMARY: The U.S. Fish and Wildlife Service announces that the Final Comprehensive Conservation Plan (CCP) is available for Mingo, Pilot Knob, and Ozark Cavefish NWRs, Missouri.

The CCP was prepared pursuant to the National Wildlife Refuge System Administration Act of 1966, as amended by the National Wildlife Refuge System Improvement Act of 1997, and the National Environmental Policy Act of 1969. Goals and objectives in the CCP describe how the agency intends to manage the refuge over the next 15 years.

ADDRESSES: Copies of the Final CCP are available on compact disk or hard copy. You may obtain a copy by writing to: U.S. Fish and Wildlife Service, Division of Conservation Planning, Bishop Henry Whipple Federal Building, 1 Federal Drive, Fort Snelling, Minnesota 55111 or you may access and download a copy via the planning Web site at http://www.fws.gov/midwest/planning/mingo.

FOR FURTHER INFORMATION CONTACT: Kathleen Burchett, (573) 222-3589.

SUPPLEMENTARY INFORMATION: Established in 1944 under authority of the Migratory Bird Treaty Act, the 21,592-acre Mingo NWR serves as a resting and wintering area for migratory waterfowl. A shallow basin, the Refuge lies in an abandoned channel of the Mississippi River bordered on the west by the Ozark Plateau and on the east by Crowley's Ridge. The Refuge contains approximately 15,000 acres of bottomland hardwood forest, 5,000 acres of marsh and water, 1,100 acres of cropland and moist soil units, and nearly 500 acres of grassy openings. During fall and spring migration, the Refuge wetlands support thousands of waterfowl.

The 90-acre Pilot Knob NWR was established in 1987. It is located atop Pilot Knob Mountain and contains abandoned iron mine shafts excavated in the mid-1800s that have since become critical habitat for the Federally endangered Indiana bat.

Ozark Cavefish NWR was established in 1991. The 41.8-acre Refuge is located in southwest Missouri and includes the outlet of an underground stream that contains a population of the Federally endangered Ozark cavefish.

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Management of the refuges for the next 15 years will focus on: (1) Improving the long-term sustainability of the bottomland forest; (2) increasing opportunities for wildlife dependent recreation and a number of other recreational activities; and (3) strengthening and expanding partnerships with government agencies, organizations, and communities.

Dated: August 11, 2006.
Robyn Thorson,
Regional Director, U.S. Fish and Wildlife Service, Fort Snelling, Minnesota.

[FR Doc. E7-10676 Filed 6-1-07; 8:45 am]

BILLING CODE 4310-55-P